NATIONAL FOUNDATION ON THE ARTS AND HUMANITIES

Proposed Collection, Submission for OMB Review

AGENCY: Institute of Museum and Library Services, NFAH.

ACTION: Notice of requests for information collection.

SUMMARY: The Institute of Museum and Library Services announces the following information collection has been submitted to the Office of Management and Budget for review and approval in accordance with the Paperwork Reduction Act of 1995 (Pub. L. 104-13, 44 U.S.C. Chapter 35). A copy of this proposed information collection request, with applicable supporting documentation, may be obtained by contacting the person as indicated in the Addresses section of the notice. The Institute of Museum and Library Services is seeking clearance for a collection of application information for Partnership for a Nation of Learners projects within the National Leadership Grant program.

DATES: Written comments must be submitted to the office listed in the addresses section below on or before October 24, 2005.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments or requests to: Rebecca Danvers, Director, Office of Research and Technology, Institute of Museum and Library Services, 1800 M Street, NW., 9th Floor, Washington, DC 20036. Dr. Danvers can be reached by telephone: 202-653-4680, Fax: 202-653-4625 or by e-mail at rdanvers@imls.gov.

SUPPLEMENTARY INFORMATION:

I. Background

The Institute of Museum and Library Services is an independent Federal grant-making agency authorized by the Museum and Library Services Act, 20 U.S.C. 910, et seq. The IMLS provides a variety of grant programs to assist the nation's museums and libraries in improving their operations and enhancing their services to the public. Museums and libraries of all sizes and types may receive support from IMLS programs. The Museum and Library Services Act, 20 U.S.C. 9101, et seq. authorizes the Director the Institute of Museum and Library Services to make grants to museums, libraries, and other entities as the Director considers appropriate, and to Indian tribes and to organizations that primarily serve and represent Native Hawaiians. In addition, IMLS awards financial assistance to State Library Administrative Agencies, which are responsible for promoting library services throughout the country.

II. Current Actions

To administer these programs of grants, cooperative agreements and contracts, IMLS must develop application guidelines.

Agency: Institute of Museum and Library Services.

Title: Application Guidelines.

OMB Number: 3137-0035.

Agency Number: 3137.

Frequency: Annually.

Affected Public: Museums, museum organizations, libraries, library organizations, institutions of higher education, Indian tribes and to organizations that primarily serve and represent Native Hawaiians, museum and library professionals, and public broadcasting licensees.

Number of Respondents: 150.

Estimated Time Per Respondent: 40 hours.

Total Burden Hours: 6000.

Total Annualized capital/startup costs: 0.

Total Annual costs: 0.

Contact: Rebecca Danvers, Director, Office of Research and Technology, Institute of Museum and Library Services, 1800 M Street, NW., 9th Floor, Washington, DC 20036. Dr. Danvers can be reached on Telephone: 202-653-4680 Fax: 202-653-4625 or by e-mail at rdanvers@imls.gov.

Dated: September 19, 2005.
Rebecca Danvers,
Director, Office of Research and Technology.

[FR Doc. 05-19009 Filed 9-22-05; 8:45 am]

BILLING CODE 7036-01-M